DEPARTMENT OF HEALTH AND HUMAN SERVICES

National Institutes of Health

Center for Scientific Review Amended; Notice of Meeting

Notice is hereby given of a change in the meeting of the Skeletal Biology Development and Disease Study Section, February 05, 2015, 08:00 a.m. to February 06, 2015, 05:00 p.m., Marriott Courtyard Gaithersburg Washingtonian Ctr, 204 Boardwalk Place, Gaithersburg, MD, 20878 which was published in the Federal Register on January 08, 2015, 80 FR 1030.

The meeting will be held at Crowne Plaza Rockville, 3 Research Court, Rockville, MD 20850. The meeting date and time remain the same. The meeting is closed to the public.

Dated: January 13, 2015.
Carolyn Baum,
Program Analyst, Office of Federal Advisory Committee Policy.

[FR Doc. 2015-00661 Filed 1-16-15; 8:45 am]

BILLING CODE 4140-01-P